ENVIRONMENTAL PROTECTION AGENCY

[FRL-7509-7]

Science Advisory Board, Advisory Council on Clean Air Compliance Analysis; Notification of Changes in an Upcoming Public Meeting

AGENCY: Environmental Protection Agency (EPA).

ACTION: Notice.

SUMMARY: The EPA Advisory Council on Clean Air Compliance Analysis (Council) is announcing changes in a previously announced meeting.

DATES: Instead of holding a full meeting of the Council as previously announced for June 11-13, 2003, the Air Quality Modeling Subcommittee (AQMS) of the Council will meet for one day only on June 12, 2003 at 8 a.m. and adjourn no later than 5 p.m (EST) on that day. The meeting agenda will be posted on the SAB Web site, http://www.epa.gov/sab/agendas.htm by June 6, 2003.

ADDRESSES: The public meeting of the Subcommittee will be held in Washington, DC. The meeting location will be announced on the SAB Web site, http://www.epa/sab. For further information concerning the public meeting, please contact Dr. Angela Nugent, DFO (see contact information below).

FOR FURTHER INFORMATION CONTACT: Any member of the public wishing further information regarding the public meeting may contact Dr. Angela Nugent, Designated Federal Officer (DFO), U.S. EPA Science Advisory Board by telephone/voice mail at (202) 564-4562 or via e-mail at nugent.angela@epa.gov. General information about the SAB can be found in the SAB Web site at http://www.epa.gov/sab.

SUPPLEMENTARY INFORMATION:

Background

Pursuant to the Federal Advisory Committee Act, Pub. L. 92-463, Notice was given in the Federal Register (68 FR 25882-25883, May 14, 2003) that the Advisory Council on Clean Air Compliance Analysis would hold a public meeting on June 11-13, 2003 to provide advice to the EPA on the Agency's plan to develop the second prospective study, the third in a series of statutorily mandated comprehensive analyses of the total costs and benefits of programs implemented pursuant to the Clean Air Act. This meeting was to include sessions for its two subcommittees, the Air Quality Modeling Subcommittee and the Health Effects Subcommittee. Background on the Council, its subcommittees, and on the advisory project was provided in a Federal Register notice published on February 14, 2003 (68 FR 7531-7534).

The Agency provided review material and detailed charge questions for the Council and its two subcommittees in mid May. These review materials for the “Benefits and Costs of the Clean Air Act 1990-2020; Revised Analytical Plan for EPA's Second Prospective Analysis' can be found at the following Web site, maintained by EPA's Office of Air and Radiation at: http://www.epa.gov/oar/sect812/. Material provided there contains the analytical plan, including individual technical appendices and charge questions submitted by EPA to the Council.

The Agency informed the SAB Staff Office and Council on May 30, 2003 that it plans to revise parts of the analytical plan and to defer many of the charge questions. Based on that information, the Council decided not to meet as planned on June 11-13, 2003. Most of the questions pertaining to the work of the Air Quality Modeling Subcommittee, however, have not been deferred. Therefore the Subcommittee will hold a short meeting on June 12, 2003 to begin providing advice on those issues.

Dated: June 2, 2003.
Vanessa T. Vu,
Director, EPA Science Advisory Board Staff Office.

[FR Doc. 03-14312 Filed 6-4-03; 8:45 am]

BILLING CODE 6560-50-P